DEPARTMENT OF HEALTH AND HUMAN SERVICES

Health Resources and Services Administration

Agency Information Collection Activities; Proposed Collection; Comment Request

ACTION: Notice.

SUMMARY: In compliance with the requirement for opportunity for public comment on proposed data collection projects (Section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Information Collection Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: Information and Referral and Professional Training Impact Surveys in Health Resources and Services Administration (HRSA)—Funded Traumatic Brain Injury Grants (OMB No. 0915-xxxx)—New

Abstract: This survey is designed to collect information from HRSA-funded Traumatic Brain Injury (TBI) State Implementation Partnership Grants and Protection and Advocacy for Traumatic Brain Injury (TBI) Grants regarding the impact of grant activities on individuals with traumatic brain injury and their family members. The authority for this program is the Public Health Service Act, Title XII, Section 1252 (42 U.S.C. 300d-52) as amended by the Children's Health Act of 2000, sec. 1304, Public Law 106-310, as further amended by the Traumatic Brain Injury Act of 2008, sec. 6, Public Law 110-206.

Individuals with TBI present with a host of different symptoms, which exist with varying levels of severity. Comprehensive appropriate care often requires a variety of services such as physical rehabilitation, speech rehabilitation, cognitive rehabilitation, special education accommodations, vocational skills coaching, and independent living skills training, which are located across many state and local agencies. For this reason, individuals with TBI and their family members often have difficulty identifying local providers with the skills and expertise to deliver services that will promote recovery and maximize independence.

Per the authorizing legislation, the intent of these programs is to improve access to rehabilitation and other services regarding traumatic brain injury. The HRSA State Implementation Partnership Grants and State Protection and Advocacy Grants support this charge by providing information to individuals with TBI and their families about TBI and making referrals to local providers equipped to meet the unique needs of each survivor. Additionally, these grant programs train providers in various settings to identify and effectively serve individuals with TBI and their families.

To date, a number of grantees have collected data independently to determine the impact of their work on individuals with TBI and their families. HRSA proposes uniform data collection surveys for these two categories of activities—information and referral services, and professional training—to assess the extent to which these activities are increasing access to rehabilitation and other services. In addition to providing uniform data across these grant programs, the data will help determine what efforts might improve outreach and provision of services for future projects.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this Information Collection Request are summarized in the table below.

The annual estimate of burden is as follows:

Form name | Number of respondents | Number of responses per respondent | Total responses | Average burden per response (in hours) | Total burden hours
Feedback Form for Individuals with TBI and/or their Family Members receiving Information and Referral Services | 21,000 | 1 | 21,000 | 0.25 | 5250
Feedback Form for Training Session Participants | 10,500 | 1 | 10,500 | 0.25 | 2,625
Total | 31,500 | 1¹ | 31,500 | 0.50 | 7,875
¹ Respondents for these two survey forms will be distinct; individuals will not complete both surveys. Therefore, there will be only one response per respondent.

ADDRESSES: Submit your comments to paperwork@hrsa.gov or mail the HRSA Reports Clearance Officer, Room 10-29, Parklawn Building, 5600 Fishers Lane, Rockville, MD 20857.

Deadline: Comments on this ICR must be received within 60 days of this notice.

Dated: May 7, 2013.
Bahar Niakan,
Director, Division of Policy and Information Coordination.

[FR Doc. 2013-11256 Filed 5-10-13; 8:45 am]

BILLING CODE 4165-15-P